DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of May, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,350; Hill Knitting Mills, Richmond Hill, NY

TA-W-38,798; PTC Alliance, Jane Lew, WV

TA-W-39,642; Global Tex LLC, d/b/a Bates of Maine, Lewiston, MI

TA-W-38,866; AGP, LLC, Sherman, TX

TA-W-38,893; The Budd Co., Stamping and Frame Div., Philadelphia, PA

In the following cases, the investigation revealed that the criteria for eligibility have not been met for the reasons specified.

Increased imports did not contribute importantly to worker separations at the firm.

TA-W-38,694; Thrall Car, Thrall Car North American Rail, Chicago Heights, IL

TA-W-38,588; Rhoda, Lee, Inc., New York, NY

TA-W-39,055; Newport Steel Corp., Newport, KY

TA-W-38,469; Gile Orchards, Alfred, ME

TA-W-38,691; Cone Mills Corp., Raytex Plant, Marion, SC

TA-W-38,923; Sunshine Precious Metals, Inc., Kellogg, ID

TA-W-39,188; Rhoda Lee, Inc., New York, NY

The workers firm does not produce an article as required for certification under section 222 of the Trade Act of 1974.

TA-W-39,012, A & B; Commtough, Inc., Mountain View, CA, New York, NY and Miami Beach, FL

TA-W-38,785; Vesuvius USA, Gadsden, AL

TA-W-39,149; Daimler Chrysler AG, Auburn Hills, MI

The investigation revealed that criteria (2) has not been met. Sales or production did not decline during the relevant period as required for certification.

TA-W-38,984; AVX Tantalum Corp., Biddeford, ME

All worker separations occurred prior to the March 31, 2001 expiration of the previous certification. The current petition can only cover workers separated after March 31, 2001. The Melt Shop has not been in operation since that time.

TA-W-38,848; Allvac, Latrobe, PA

Affirmative Determinations for Worker Adjustment Assistance

The following certifications have been issued; the date following the company name and location of each determination references the impact date for all workers of such determination.

TA-W-39,072 & A; Thomasville Furniture Industries, Johnson City, TN & Fayette Enterprises, Fayette, MS: April 5, 2000.

TA-W-39,140; Dunbrooke Industries, Ocean Springs, MS: April 11, 2000.

TA-W-38,960; Spectron Lasers USA, Inc., Warwick, RI: March 12, 2000.

TA-W-38,623; Eaton Aeroquip Corp., Aeroquip Precision Speres Div., Ann Arbar, MI: January 18, 2000.

TA-W-38,524; The Quaker Oats Co., Shiremanstown, PA December 20, 1999.

TA-W-39,153; Salon Manufacturing, Rhinelander, WI: April 9, 2000.

TA-W-39,101; The Eureka Co., El Paso, TX Including Temporary Workers of Southwest Staffing, Inc., Employed at The Eureka Co, El Paso, TX: April 3, 2000.

TA-W-38,726; Avery Dennison Fassion Roll Div., Quakertown, PA: February 8, 2000.

TA-W-39,154; Jonathan Engineered Solutions, Fullerton, CA: April 6, 2000.

TA-W-38,815; Johnston Industries, Inc., Columbus, GA: February 15, 2000.

TA-W-38,881; Viasystems Technologies Corp., LLC, Richmond, VA March 9, 2000.

TA-W-39,094; Ajay Leisure Products, Inc., Delavan, WI: August 19, 1999

TA-W-38,666; Marco Distributing, Idaho Falls, ID: January 12, 2000.

TA-W-38,634; Spectrum Dyed Yarns, Inc., Belmont, NC: January 23, 2000.

TA-W-38,776; Smith and Nephew, Inc., Casting Div., Charlotte, NC: Febuary 13, 2000.

TA-W-38,540; New York Air Brake Corp., Div. of Knorr Brake Co., Watertown, NY: December 30, 1999.

TA-W-39,083; Crystal Springs Apparel, LLC, Formerly Bernstein & Son Shirt Corp., Crystal Springs, MS: November 10, 2000.

TA-W-39,098; Seal Glove Manufacturing, Inc., Millersburg, PA: April 4, 2000.

TA-W-38,807; Heckett Multiserve, Div. of Harsco Corp., Employed at WCI Steel, Inc., Warren, OH: January 21, 2001

TA-W-38,792 & A; Stitches, Inc., Red Boiling Springs, TN and Gamaliel, KY: Febraury 26, 2000.

TA-W-39,040 & A; Lebanon Apparel, Lebanon, VA and Three Creek Apparel, Castelwood, VA: March 28, 2000.

TA-W-38,440 & A, B, C, D; U.S. Forest Industries, Inc., Medford, OR, Grants Pass, OR, South Fork, CO, Abbeville, AL & Graceville, FL: November 21, 1999.

TA-W-39,178; Annalee Mobilitee Dolls, Inc., Meredith, NH: April 12, 2000.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of May, 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04613; The Budd Co., Stamping and Frame Div., Philadelphia, PA

NAFTA-TAA-04763; CMS Hartzell Manufacturing, St. Paul, MN

NAFTA-TAA-04661; Sunshine Precious Metals, Inc., Kellogg, ID

NAFTA-TAA-04634; AGP LLC, Sherman, TX

The investigation revealed that the criteria for eligibility have not been met for the reasons specified.

The workers' firm does not produce an article as required for certification under section 222 of the Trade Act of 1974.

NAFTA-TAA-04774; Commtouch, Inc., Mountain View, CA

Affirmative Determinations NAFTA-TAA

NAFTA-TAA-04586; O-Z/Gedney, Pittston, PA: February 21, 2000.

NAFTA-TAA-04362 & A, B, C, D; U.S. Forest Industries, Inc., Medford, OR, Grants Pass, OR, South Fork, CO, Abbeville, AL, Graceville, FL: November 21, 1999.

NAFTA-TAA-04425; New York Air Brake Corp., Div. of Knorr Brake Co., Watertown, NY: December 30, 1999.

NAFTA-TAA-04667; Ten Cate Enbi, West Henrietta, NY: March 14, 2000.

NAFTA-TAA-04757; Seal Glove Manufacturing, Inc., Millersburg, PA: April 12, 2000.

NAFTA-TAA-04736; Minnesota Rubber Div., Quadion Corp., Minneapolis, MN: April 5, 2000.

NAFTA-TAA-04765; Techalloy Co., Inc., Fine Wire Div., Including Die Shop, Northampton, MA: April 5, 2000.

NAFTA-TAA-04754; Fontaine International, Fontaine Fifth Wheel, Rocky Mount, NC: April 5, 2000.

NAFTA-TAA-04559; Avery Dennison, Fasson Roll Div., Quakertown, PA February 8, 2000.

NAFTA-TAA-04744; The Eureka Co., El Paso, TX, Including Temporary Workers of Southwest Staffing, Inc., Employed at The Eureka Co., El Paso, TX: April 4, 2000.

NAFTA-TAA-04764; Solon Manufacturing, Rhinelander, WI: April 9, 2000.

NAFTA-TAA-04580; Corning Cable Systems LLC, Champion Products Div., Pensacola, FL: January 26, 2000.

NAFTA-TAA-04820; Tridelta Industries, Inc., Mentor, OH: April 10, 2000.

NAFTA-TAA-04775; Jonathan Engineered Solutions, Fullerton, CA: March 27, 2000.

NAFTA-TAA-04635; Viasystems Technologies Corp., LLC, Richmond, VA: March 9, 2000.

NAFTA-TAA-04413; The Quaker Oats Co., Shiremanstown, PA: December 20, 1999.

I hereby certify that the aforementioned determinations were issued during the month of May, 2001. Copies of these determinations are available for inspection in Room C-5311, U.S. Department of Labor, 200 Constitution Avenue, NW., Washington, DC 20210 during normal business hours or will be mailed to persons who write to the above address.

Dated: May 11, 2001.
Edward A. Tomchick,
Director, Division of Trade Adjustment Assistance.

[FR Doc. 01-12997 Filed 5-22-01; 8:45 am]

BILLING CODE 4516-30-M